DEPARTMENT OF COMMERCE

National Institute of Standards and Technology

Announcing a Meeting of the Information Security and Privacy Advisory Board

AGENCY: National Institute of Standards and Technology.

ACTION: Notice.

SUMMARY: The Information Security and Privacy Advisory Board (ISPAB) will meet Wednesday, August 4, 2010, from 9 a.m. until 5 p.m. Thursday, August 5, 2010, from 8:30 a.m. until 5 p.m., and Friday, August 6, 2010 from 8 a.m. until 12:30 p.m. All sessions will be open to the public.

DATES: The meeting will be held on Wednesday, August 4, 2010, from 9 a.m. until 5 p.m., Thursday, August 5, 2010, from 8:30 a.m. until 5 p.m. and Friday, August 6, 2010 from 8 a.m. until 12:30 p.m.

ADDRESSES: The meeting will take place at the Marriott Hotel Washington, 1221 22nd Street, NW., Washington, District of Columbia 20037 on August 4, 5, & 6, 2010. Please see admittance instructions in the SUPPLEMENTARY INFORMATION section of this notice.

FOR FURTHER INFORMATION CONTACT: Mr. Matthew Scholl, Information Technology Laboratory, National Institute of Standards and Technology, 100 Bureau Drive, Stop 8930, Gaithersburg, MD 20899-8930, telephone: (301) 975-2941.

SUPPLEMENTARY INFORMATION: Pursuant to the Federal Advisory Committee Act, 5 U.S.C. App., notice is hereby given that the Information Security and Privacy Advisory Board (ISPAB) will meet Wednesday, August 4, 2010, from 9 a.m. until 5 p.m., Thursday, August 5, 2010, from 8:30 a.m. until 5 p.m. and Friday, August 6, 2010 from 8 a.m. until 12:30 p.m. All sessions will be open to the public. The ISPAB was established by the Computer Security Act of 1987 (Pub. L. 100-235) and amended by the Federal Information Security Management Act of 2002 (Pub.L. 107-347) to advise the Secretary of Commerce and the Director of NIST on security and privacy issues pertaining to federal computer systems. Details regarding the ISPAB's activities are available at http://csrc.nist.gov/groups/SMA/ispab/index.html/.

The agenda is expected to include the following items:

—Embedded software (biomedical, ICS) and associated malware.

— FISMA Guidance.

— National Initiative for Cybersecurity Education (NICE).

—Key Priorities next 2-3 years for NIST in cyber security.

— Threat Vector Initiative.

— Fedramp.

— Cyber Coordinator Briefing.

— National Protection and Programs Directorate Briefing.

— Security Roadmap.

— Initiative 3 Exercise (Einstein).

— NIST Update.

— GAO Review.

— Board Work Plan.

— OMB Update/Metrics.

— S-Cap usage and continuous monitoring.

— Authentication and Trust Framework Secure Online Transaction (SOT) Work.

— Assurance of Legitimate Government Outbound Mail.

— Commerce Department NOI.

Note that agenda items may change without notice because of possible unexpected schedule conflicts of presenters. The final agenda will be posted on the website indicated above.

Public Participation: The ISPAB agenda will include a period of time, not to exceed thirty minutes, for oral comments from the public (Thursday August 5, 2010, at 3-3:30 p.m.). Each speaker will be limited to five minutes. Members of the public who are interested in speaking are asked to contact the ISPAB Secretariat at the telephone number indicated above. The board is interested in public comments on the agenda as a whole with specific interest in the following topics due to their impact on security and privacy as new technologies, potential areas of success for the U.S. Government if conducted properly and areas have a current significant relevance to the Federal Government.

— Embedded software (biomedical, ICS) and associated malware.

— Authentication and Trust Framework Secure Online Transaction (SOT) Work.

— FISMA Guidance.

— S-Cap usage and continuous monitoring.

In addition, written statements are invited and may be submitted to the ISPAB at any time. Written statements should be directed to the ISPAB Secretariat, Information Technology Laboratory, 100 Bureau Drive, Stop 8930, National Institute of Standards and Technology, Gaithersburg, MD 20899-8930. Approximately 15 seats will be available for the public and media.

Dated: July 8, 2010.
David Robinson,
Chief Financial Officer.

[FR Doc. 2010-17022 Filed 7-12-10; 8:45 am]

BILLING CODE 3510-13-P